DEPARTMENT OF THE INTERIOR

National Park Service

Flight 93 National Memorial Advisory Commission

AGENCY: National Park Service.

ACTION: Notice of October 27, 2007 meeting.

SUMMARY: This notice sets forth the date of the October 27, 2007 meeting of the Flight 93 Advisory Commission. An unusual combination of events in the preparation, approval, and transmission of this notice has resulted in the publication of this notice less than 15 days before the date of the meeting. The National Park Service has made extraordinary efforts to provide notification to all commission members and to the public.

DATE: The public meeting of the Advisory Commission will be held on Saturday, October 27, 2007, from 10:30 a.m. to 1:30 p.m. (Eastern). The Commission will meet jointly with the Flight 93 Memorial Task Force.

Location: The meeting will be held at the New York City Police Museum, 100 Old Slip, New York, New York (between Water and South Streets).

The meeting will be connected to the Flight 93 National Memorial Office via teleconference located at 109 West Main Street, Suite 104, Somerset, Pennsylvania 15501. The public is encouraged and welcome to attend either the meeting in New York City, or in Somerset.

Agenda:

The October 27, 2007 joint Commission and Task Force meeting will consist of:

(1) Opening of Meeting and Pledge of Allegiance.

(2) Review and Approval of Commission Minutes from July 29, 2007.

(3) Reports from the Flight 93 Memorial Task Force and National Park Service. Comments from the public will be received after each report and/or at the end of the meeting.

(4) Old Business.

(5) New Business.

(6) Public Comments.

(7) Closing Remarks.

FOR FURTHER INFORMATION CONTACT: Joanne M. Hanley, Superintendent, Flight 93 National Memorial, 109 West Main Street, Somerset, PA 15501, 814.443.4557.

SUPPLEMENTARY INFORMATION: The meeting will be open to the public. Any member of the public may file with the Commission a written statement concerning agenda items. Address all statements to: Flight 93 Advisory Commission, 109 West Main Street, Somerset, PA 15501.

Dated: September 28, 2007.
Joanne M. Hanley,
Superintendent, Flight 93 National Memorial.

[FR Doc. 07-5253 Filed 10-23-07; 8:45 am]

BILLING CODE 4312-25-M